DEPARTMENT OF ENERGY

Federal Energy Regulatory Commission

[Docket No. PR03-4-000]

Lee 8 Storage Partnership; Notice of Petition for Rate Approval

November 21, 2002.

Take notice that on November 15, 2002, Lee 8 Storage Partnership (Lee 8) pursuant to Section 284.123(b)(2) of the Commission's Regulations, filed a petition requesting that the Commission approve its rates pursuant to Section 311(a)(2) of the Natural Gas Policy Act of 1978. Lee 8 proposes system-wide maximum rates of $4.8636 per Dt of deliverability and $0.0486 per Dt of capacity. In addition, Lee 8 states that it will charge 0.59% of the injected volumes and 0.59% of the withdrawal volumes as an allowance for compressor fuel and lost-and-unaccounted-for gas on Lee 8's system.

Lee 8's petition states that Lee 8 is a Hinshaw pipeline exempt from Commission regulation under Section 1(c) of the NGA, with facilities located wholly within the state of Michigan.

Pursuant to Section 284.123(b)(2)(ii), if the Commission does not act within 150 days of the filing date of Lee 8's petition, Lee 8's proposed maximum rates for firm and interruptible storage services will be deemed to be fair and equitable. The Commission may within such 150 day period extend the time for action or institute a proceeding in which all interested parties will be afforded an opportunity for written comments and the oral presentation of views, data, and arguments.

Any person desiring to participate in this rate proceeding must file a motion to intervene or protest with the Federal Energy Regulatory Commission, 888 First Street, NE., Washington DC 20426, in accordance with Sections 385.214 or 385.211 of the Commission's Rules and Regulations. All such motions or protests must be filed with the Secretary of the Commission on or before December 6, 2002. Protests will be considered by the Commission in determining the appropriate action to be taken, but will not serve to make protestants parties to the proceedings. Any person wishing to become a party must file a motion to intervene. This petition for rate approval is available for review at the Commission in the Public Reference Room or may be viewed on the Commission's website at http://www.ferc.gov using the “FERRIS” link. Enter the docket number excluding the last three digits in the docket number field to access the document. For Assistant, please call FERC Online Support at FERCOnLine@ferc.gov or toll-free at (866) 208-3676, or for TTY, (202) 502-8659. Comments, protests and interventions may be filed electronically via the Internet in lieu of paper. The Commission strongly encourages electronic filings.See 18 CFR 385.2001(1)(iii) and the instructions on the Commission's web site under the “e-Filing” link.

Linwood A. Watson, Jr.,
Deputy Secretary.

[FR Doc. 02-30210 Filed 11-26-02; 8:45 am]

BILLING CODE 6717-01-P